DEPARTMENT OF ENERGY

Federal Energy Regulatory Commission

Combined Notice of Filings #2

Take notice that the Commission received the following electric rate filings:

Docket Numbers: ER10-1942-009; ER10-2042-012; ER10-1938-007; ER10-1898-006; ER10-1934-006; ER10-1893-006; ER10-1877-002; ER10-1862-006.

Applicants: Calpine Construction Finance Company, L.P., Calpine Energy Services, L.P., Calpine Power America—CA, LLC, CES Marketing V, LLC, CES Marketing IX, LLC, CES Marketing X, LLC, Hermiston Power, LLC, Power Contract Financing, L.L.C.

Description: Updated Market Power Analysis for the Northwest Region of the Calpine Corporation subsidiaries.

Filed Date: 12/30/13.

Accession Number: 20131230-5171.

Comments Due: 5 p.m. ET 2/28/14.

Docket Numbers: ER10-2179-022; ER10-2181-022; ER10-2182-022.

Applicants: R.E. Ginna Nuclear Power Plant, LLC, Calvert Cliffs Nuclear Power Plant, LLC, Nine Mile Point Nuclear Station, LLC.

Description: Updated Market Power Analysis for the Northeast Region of the Constellation Energy Nuclear Group entities.

Filed Date: 12/30/13.

Accession Number: 20131230-5166.

Comments Due: 5 p.m. ET 2/28/14.

Docket Numbers: ER14-878-000.

Applicants: Willow Creek Energy LLC.

Description: Willow Creek Energy LLC submits Revised Market-Based Rate Tariff Pursuant to Order No. 784 to be effective 12/31/2013.

Filed Date: 12/30/13.

Accession Number: 20131230-5025.

Comments Due: 5 p.m. ET 1/21/14.

Docket Numbers: ER14-879-000.

Applicants: Vantage Wind Energy LLC.

Description: Vantage Wind Energy LLC submits Revised Market-Based Rate Tariff Pursuant to Order No. 784 to be effective 12/31/2013.

Filed Date: 12/30/13.

Accession Number: 20131230-5026.

Comments Due: 5 p.m. ET 1/21/14.

Docket Numbers: ER14-880-000.

Applicants: Duke Energy Florida, Inc.

Description: Duke Energy Florida, Inc. submits Amendment to TECO RS No. 80 to be effective 12/27/2013.

Filed Date: 12/30/13.

Accession Number: 20131230-5027.

Comments Due: 5 p.m. ET 1/21/14.

Docket Numbers: ER14-881-000.

Applicants: Dogwood Energy LLC.

Description: Dogwood Energy LLC submits Revised Market-Based Rate Tariff Filing to be effective 3/1/2014.

Filed Date: 12/30/13.

Accession Number: 20131230-5032.

Comments Due: 5 p.m. ET 1/21/14.

Docket Numbers: ER14-882-000.

Applicants: Oklahoma Gas and Electric Company.

Description: Oklahoma Gas and Electric Company submits Change in Status Related to SPP's Integrated Marketplace to be effective 3/1/2014.

Filed Date: 12/30/13.

Accession Number: 20131230-5060.

Comments Due: 5 p.m. ET 1/21/14.

Docket Numbers: ER14-883-000.

Applicants: Illinois Power Marketing Company.

Description: Illinois Power Marketing Company submits Notice of Succession for Market-Based Rate Tariff to be effective 12/2/2013.

Filed Date: 12/30/13.

Accession Number: 20131230-5145.

Comments Due: 5 p.m. ET 1/21/14.

Docket Numbers: ER14-884-000.

Applicants: PPL Maine, LLC.

Description: PPL Maine, LLC submits Notice of Cancellation to be effective 2/28/2014.

Filed Date: 12/30/13.

Accession Number: 20131230-5152.

Comments Due: 5 p.m. ET 1/21/14.

Docket Numbers: ER14-885-000.

Applicants: Saguaro Power Company, a Limited Partnership.

Description: Saguaro Power Company, a Limited Partnership submits Saguaro Tariff Amendment to be effective 12/31/2013.

Filed Date: 12/30/13.

Accession Number: 20131230-5159.

Comments Due: 5 p.m. ET 1/21/14.

Docket Numbers: ER14-886-000.

Applicants: RRI Energy Services, LLC.

Description: RRI Energy Services, LLC submits RRI Tariff Amendment to be effective 12/31/2013.

Filed Date: 12/30/13.

Accession Number: 20131230-5163.

Comments Due: 5 p.m. ET 1/21/14.

Docket Numbers: ER14-887-000.

Applicants: Reliant Energy Northeast LLC.

Description: Reliant Energy Northeast LLC submits REN Tariff Amendment to be effective 12/31/2013.

Filed Date: 12/30/13.

Accession Number: 20131230-5164.

Comments Due: 5 p.m. ET 1/21/14.

Docket Numbers: ER14-888-000.

Applicants: NRG Solar Alpine LLC.

Description: NRG Solar Alpine LLC submits Solar Alpine Tariff Amendment to be effective 12/31/2013.

Filed Date: 12/30/13.

Accession Number: 20131230-5168.

Comments Due: 5 p.m. ET 1/21/14.

Docket Numbers: ER14-889-000.

Applicants: NRG New Jersey Energy Sales LLC.

Description: NRG New Jersey Energy Sales LLC submits NJES Tariff Amendment to be effective 12/31/2013.

Filed Date: 12/30/13.

Accession Number: 20131230-5169.

Comments Due: 5 p.m. ET 1/21/14.

Docket Numbers: ER14-890-000.

Applicants: Long Beach Peakers LLC.

Description: Long Beach Peakers LLC submits LBP Tariff Amendment to be effective 12/31/2013.

Filed Date: 12/30/13.

Accession Number: 20131230-5170.

Comments Due: 5 p.m. ET 1/21/14.

Docket Numbers: ER14-891-000.

Applicants: Long Beach Generation LLC.

Description: Long Beach Generation LLC submits LBG Tariff Amendment to be effective 12/31/2013.

Filed Date: 12/30/13.

Accession Number: 20131230-5177.

Comments Due: 5 p.m. ET 1/21/14.

Docket Numbers: ER14-892-000.

Applicants: Independence Energy Group LLC.

Description: Independence Energy Group LLC submits IEG Tariff Amendment to be effective 12/31/2013.

Filed Date: 12/30/13.

Accession Number: 20131230-5178.

Comments Due: 5 p.m. ET 1/21/14.

Docket Numbers: ER14-893-000.

Applicants: High Plains Ranch II, LLC.

Description: High Plains Ranch II, LLC submits High Plains to be effective 12/31/2013.

Filed Date: 12/30/13.

Accession Number: 20131230-5180.

Comments Due: 5 p.m. ET 1/21/14.

Docket Numbers: ER14-894-000.

Applicants: Green Mountain Energy Company.

Description: Green Mountain Energy Company submits GMEC Tariff Amendment to be effective 12/31/2013.

Filed Date: 12/30/13.

Accession Number: 20131230-5181.

Comments Due: 5 p.m. ET 1/21/14.

Docket Numbers: ER14-895-000.

Applicants: El Segundo Power, LLC.

Description: El Segundo Power, LLC submits El Segundo Tariff Amendment to be effective 12/31/2013.

Filed Date: 12/30/13.

Accession Number: 20131230-5182.

Comments Due: 5 p.m. ET 1/21/14.

Docket Numbers: ER14-896-000.

Applicants: Cabrillo Power I LLC.

Description: Cabrillo Power I LLC submits Cabrillo I Tariff Amendment to be effective 12/31/2013.

Filed Date: 12/30/13.

Accession Number: 20131230-5183.

Comments Due: 5 p.m. ET 1/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2013.
Nathaniel J. Davis, Sr.,
Deputy Secretary.

[FR Doc. 2014-00012 Filed 1-6-14; 8:45 am]

BILLING CODE 6717-01-P